INTERNATIONAL TRADE COMMISSION

[Investigation No. 337-TA-1211]

Certain Vaporizer Cartridges and Components Thereof; Notice of Institution

AGENCY: U.S. International Trade Commission.

ACTION: Notice.

SUMMARY: Notice is hereby given that a complaint was filed with the U.S. International Trade Commission on July 10, 2020, under section 337 of the Tariff Act of 1930, as amended, on behalf of Juul Labs, Inc. of San Francisco, California. Supplements to the complaint were filed on July 21, 2020, and July 31, 2020. The complaint, as supplemented, alleges violations of section 337 based upon the importation into the United States, the sale for importation, and the sale within the United States after importation of certain vaporizer cartridges and components thereof by reason of infringement of U.S. Design Patent No. D842,536 (“the 'D536 patent”); U.S. Design Patent No. D858,870 (“the 'D870 patent”); U.S. Design Patent No. D858,869 (“the 'D869 patent”); and U.S. Design Patent No. D858,868 (“the 'D868 patent”). The complaint further alleges that an industry in the United States exists as required by the applicable Federal Statute.

The complainant requests that the Commission institute an investigation and, after the investigation, issue a general exclusion order, or in the alternative a limited exclusion order, and cease and desist orders.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Pathenia M. Proctor, The Office of Unfair Import Investigations, U.S. International Trade Commission, telephone (202) 205-2560.

SUPPLEMENTARY INFORMATION:

Authority: The authority for institution of this investigation is contained in section 337 of the Tariff Act of 1930, as amended, 19 U.S.C. 1337, and in section 210.10 of the Commission's Rules of Practice and Procedure, 19 CFR 210.10 (2020).

Scope of Investigation: Having considered the complaint, the U.S. International Trade Commission, on August 10, 2020, Ordered That—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of the claim of the 'D536 patent; the claim of the 'D870 patent; the claim of the 'D869 patent; and the claim of the 'D868 patent, and whether an industry in the United States exists as required by subsection (a)(2) of section 337;

(2) Pursuant to section 210.10(b)(1) of the Commission's Rules of Practice and Procedure, 19 CFR 210.10(b)(1), the plain language description of the accused products or category of accused products, which defines the scope of the investigation, is “vaporizer cartridges and components thereof containing a space to hold a vaporizable liquid substance that can be vaporized after the cartridge is inserted into a vaporizer device”;

(3) For the purpose of the investigation so instituted, the following are hereby named as parties upon which this notice of investigation shall be served:

(a) The complainant is: Juul Labs, Inc., 560 20th Street, San Francisco, CA 94107.

(b) The respondents are the following entities alleged to be in violation of section 337, and are the parties upon which the complaint is to be served:

101 Smoke Shop, Inc., 3266 Cahuenga Blvd. West, Los Angeles, CA 90068.

2nd Wife Vape, 1195 Fm 156 S, Suite 140, Haslet, TX 76052.

Access Vapor LLC, 6550 International Drive, Suite 103, Orlando, FL 32819.

All Puff Store, 6801 Engle Rd., Suite E, Middleburg Heights, OH 44130.

Alternative Pods, 4860 Rhiannon Ct, Palatine, IL 60067.

Ana Equity LLC, 6550 International Drive, Suite 103, Orlando, FL 32819.

Aqua Haze LLC, 12801 N Stemmons Fwy., Suite 809, Farmers Branch, TX 75234.

Cali Pods, P.O. Box 41387, Houston, TX 77241.

Canal Smoke Express, Inc., 383 Canal St., New York, NY 10013.

CaryTown Tobacco, 1701 E Main St., Richmond, VA 23223.

Cigar Road, Inc., 23315 Mulholland Drive, Woodland Hills, CA 91364.

Cloud 99 Vapes, 50 2nd Ave., New York, NY 10003.

DripTip Vapes LLC, 151 N Nob Hill Rd., #115, Plantation, FL 33325.

Shenzhen Azure Tech USA LLC f/k/a DS, Vaping P.R.C., 10th Fl., ChongQing Rd., Fuyong, Shenzhen, Guangdong, China 518100.

eCig-City, 1400 University Ave., Ste. A107, Riverside, CA 92507.

Ejuicedb, 105 Route 109, Farmingdale, NY 11735.

eLiquid Stop, 101 N Verdugo Rd., #11701, Glendale, CA 91226.

Eon Pods LLC, 155 Washington St., Jersey City, NJ 07302.

Evergreen Smokeshop, 3221 Foothill Blvd., Oakland, CA 94601.

EZFumes, 2900 Highway 121, Ste. 165, Bedford, TX 76021.

Guangdong Cellular Workshop Electronic Technology Co., Ltd., 888 BBK Avenue, Jiangbei Village, Wusha Community, Changan Town, Dongguan City, Guangdong, China 523068.

JC Pods, 1410 Kirk Street, Elk Grove Village, IL 60007.

Jem Pods, U.S.A., 8411 Lake Drive, Snellville, GA 30039.

JUULSite Inc., 411 Country Club Dr., Bensenville, IL 60106.

Keep Vapor Electronic Tech. Co., Ltd., Block D, XinLong Techno Park, Shaling Town, Bao'an District, Shenzhen, China 518101.

Limitless Accessories, Inc., 8712 Kathleen Lane, Tinley Park, IL 60487.

Midwest Goods, Inc., 1019 Entry Dr., Bensenville, IL 60106.

Modern Age Tobacco, 1122 W University Avenue, Gainesville, FL 32601.

Mr. Fog, 605 Country Club Drive, Bensenville, IL 60106.

Naturally Peaked Health Co., 16 Mt. Ebo Rd. S, Suite 13, Brewster, NY 10509.

Nilkant 167 Inc., 167 Newbury St., Boston, MA 02116.

Perfect Vape LLC, 2305 S Agnew Ave., Oklahoma City, OK 73108.

Price Point NY, 500 Smith Street, Farmingdale, NY 11735.

Puff E-Cig, 3 Mountain Dr., Imlay City, MI 48444.

Shenzhen Apoc Technology Co., Limited, 1402, Yunhua Shidai, Haoxiang Road, Shajing Town, Bao'an District, Shenzhen, China 518101.

Shenzhen Bauway Technology Ltd., Building B5, Linpokeng 1st Industrial Zone, Haosan, Nanpu Road, Shajing Street, Bao'an District, Shenzhen, Guangdong, China, 518104.

Shenzhen Ocity Times Technology Co., Ltd., 5th Floor, Unit B, Mingyou Industry Park, Baoyuan Road, Bao'an District, Shenzhen, Guangdong, China, 518102.

Shenzhen Yark Technology Co., Ltd., 3 Floor of No.14 SongShang West Road, BoGang Community Xinsha Road Of Shajing, District Bao'an, Shenzhen, China, 518125.

Sky Distribution LLC, P.O. Box 1325, Addison, IL 60101.

Smoker's Express, 3029 E Walton Blvd., Auburn Hills, MI 48326.

The Kind Group LLC, 1808 Brielle Ave., Ocean, NJ 07712.

Tobacco Alley of Midland, 1011 N Midkiff Road, Midland, TX 79701.

Valgous, 411 Country Club Dr., Bensenville, IL 60106.

Vape Central Group, 203 NE 1st Avenue, Hallandale, FL 33009.

Vape `n Glass, 283 N Barrington Road, Streamwood, IL 60107.

Vaperistas, 591 N Edgewood Ave., Wood Dale, IL 60191.

Vapers&Papers, LLC, 714 Stanley St., Schenectady, NY 12307.

WeVapeUSA, 1479 E 15th St., Brooklyn, NY, 11230.

Wireless N Vapor Citi LLC, 393 Waller Avenue, Suite 3, Lexington, KY 40504.

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainant of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: August 10, 2020.
Lisa Barton,
Secretary to the Commission.

[FR Doc. 2020-17768 Filed 8-13-20; 8:45 am]

BILLING CODE 7020-02-P